DEPARTMENT OF HEALTH AND HUMAN SERVICES
National Institutes of Health
National Institute of Neurological Disorders and Stroke; Amended Notice of Meeting

Notice is hereby given of a change in the meeting of the National Advisory Neurological Disorders and Stroke Council, February 11, 2004, 8 p.m. to February 11, 2004, 10 p.m., Hyatt Regency Bethesda, One Bethesda Metro Center, 7400 Wisconsin Avenue, Bethesda, MD 20814 which was published in the Federal Register on January 16, 2004, FR 69 04-949.
The infrastructure, Neuroinformatics and Computational Neuroscience Subcommittee will be in open session from 8-9:30 p.m. and will be in closed session from 9:30-10 p.m. The meeting is partially closed to the public.

Dated: January 23, 2004.
LaVerne Y. Stringfield,
Director, Office of Federal Advisory Committee Policy.

[FR Doc. 04-1998 Filed 1-29-04; 8:45 am]
BILLING CODE 4140-01-M